DEPARTMENT OF TRANSPORTATION

Federal Aviation Administration

[Docket No.: FAA-2016-4756]

Reduction of Remote Communications Outlets Used by Flight Service Stations in the Conterminous United States

AGENCY: Federal Aviation Administration (FAA), DOT.

ACTION: Notice of proposed policy.

SUMMARY: The FAA is proposing to reduce the number of radio frequencies used by flight service stations to communicate with aircraft in flight. Under the proposal, six hundred and sixty-six (666) remote communications outlets (RCOs) will be decommissioned. Frequencies especially designated for emergency or military use are not included in this proposal. Frequencies in the state of Alaska are also not included in this proposal.

DATES: Submit comments on or before June 27, 2016.

ADDRESSES: You may send comments identified by docket number FAA-2016-4756 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Alan Wilkes, Manager, Flight Service National Efficient Streamlined Services (FSNESS) Initiative, Operations and Implementation, Federal Aviation Administration, 800 Independence Avenue SW., Washington, DC 20591; telephone (202) 267-7771; Fax (202) 267-6310; email Alan.Wilkes@faa.gov. Jeff Black, Quality Assurance Evaluator, Flight Services Program Operations; telephone (940) 584-0409; email Jeff.Black@faa.gov.

SUPPLEMENTARY INFORMATION:

Background

The Federal Aviation Administration maintains a network of over 2,100 remote communications outlets (RCOs) throughout the conterminous United States, Hawaii and Puerto Rico. The RCOs are used by its contract service provider, Lockheed Martin Flight Services (LMFS), to communicate with pilots in flight. Pilots can obtain weather briefings, file flight plans and receive numerous other services by using these frequencies.

The frequency infrastructure currently in use was developed nearly 50 years ago, with little or no modifications since. In 2005, LMFS took over flight service operations at 58 locations in the Conterminous United States (CONUS), Puerto Rico, and Hawaii. In doing so, it inherited a vast network of 2,162 frequencies used to provide a variety of services. For example, 347 frequencies are designated for emergency use only and 194 frequencies are designated for military use only. These 541 frequencies are not being considered for removal. The remaining 1,621 frequencies can be divided into two groups.

(1) Remote communications outlets in which aircraft can contact a flight service station by transmitting and receiving on a common or discrete frequency, for example, 122.2, 122.5, etc. There are 1,223 RCOs in the CONUS.

(2) Frequencies that are co-located with navigational aids known as VORs in which aircraft can contact flight service by transmitting on a frequency (usually 122.1) and receiving on the appropriate VOR frequency. There are 398 VOR frequencies in the CONUS.

The 1,621 frequencies cover a vast majority of the conterminous United States and include duplicate, overlapping and seldom used frequencies. Last year, FAA contracted the MITRE Corporation to study the areas covered by RCO and VOR frequencies for possible removal without significantly impacting the area of coverage. The study concluded that as many as 666 frequencies could be removed and still provide 99-100% coverage at 5,000 feet; 98-100% coverage at 3,000 feet; and 93-100% coverage at 1,000 feet.

The FAA proposes to begin decommissioning 666 remote communications outlets in the Conterminous United States, Puerto Rico, and Hawaii in late 2017. Several types of frequencies are not considered a part of this proposal: Frequencies especially designated for emergency or military use; frequencies in the state of Alaska; and Ground Communications Outlets (frequencies used by pilots while still on the ground).

By reducing radio coverage, the Agency estimates that it can save approximately $2.5 million annually in maintenance costs alone. Additionally, more savings will be realized once property leases are terminated and voice-switch communications infrastructure is decreased.

By soliciting comment to this notice, the FAA seeks to address public concerns and will consider any comments in determining whether to change the policy.

Applicability

A link to the frequencies proposed for decommissioning can be found here: http://www.faa.gov/about/office_org/headquarters_offices/ato/service_units/systemops/fs/media/RCO_Master_List.pdf.

Also, a link to maps showing frequency coverage throughout the United States at various altitudes, with percentages of coverage can be found here: http://www.faa.gov/about/office_org/headquarters_offices/ato/service_units/systemops/fs/media/Radio_Reduction_Fed_Reg.pdf.

II. Additional Information

A. Comments Invited

The FAA invites interested persons to participate in this notice by submitting written comments, data, or views. The agency also invites comments relating to the economic, environmental, energy, or federalism impacts that might result from adopting the notice in this document. The most helpful comments reference a specific portion of the notice, explain the reason for any recommended change, and include supporting data. To ensure the docket does not contain duplicate comments, commenters should send only one copy of written comments, or if comments are filed electronically, commenters should submit only one time.

The FAA will file in the docket all comments it receives, as well as a report summarizing each substantive public contact with FAA personnel concerning this action. Before acting on this notice, the FAA will consider all comments it receives on or before the closing date for comments. The FAA will consider comments filed after the comment period has closed if it is possible to do so without incurring expense or delay. The agency may change this notice in light of the comments it receives.

Proprietary or Confidential Business Information: Do not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or amendment number of this notice.

All documents the FAA considered in developing this notice, including economic analyses and technical reports, may be accessed from the Internet through the Federal eRulemaking Portal referenced in item (1) above.

Issued in Washington, DC, on April 20, 2016.
Steven Villanueva,
Acting Director of Flight Service.

[FR Doc. 2016-09992 Filed 4-27-16; 8:45 am]

BILLING CODE 4910-13-P